DEPARTMENT OF VETERANS AFFAIRS

National Research Advisory Council; Notice of Meeting

The Department of Veterans Affairs (VA) gives notice under Public Law 92-463 (Federal Advisory Committee Act) that the National Research Advisory Council will hold a meeting on Monday, September 10, 2007, in room 900 at VA's Office of Research and Development, 1722 Eye Street, NW., Washington, DC, from 8 a.m. until 3 p.m. The meeting is open to the public.

The purpose of the Council is to provide external advice and review for VA's research mission. The meeting will feature a review of VA's research portfolio and a summary of current budget allocations. The Council will also provide feedback on the direction and focus of VA's research initiatives.

Any member of the public wishing to attend the meeting or wishing further information should contact Jay A. Freedman, PhD, Designated Federal Office, at (202) 254-0267. Oral comments from the public will not be accepted at the meeting. Written statements or comments should be transmitted electronically to jay.freedman@va.gov or mailed to Dr. Freedman at Department of Veterans Affairs, Office of Research and Development (12), 810 Vermont Ave., NW., Washington, DC 20420.

Dated: August 14, 2007.
By Direction of the Secretary.
E. Philip Riggin,
Committee Management Officer.

[FR Doc. 07-4048 Filed 8-17-07; 8:45 am]

BILLING CODE 8320-01-M